DEPARTMENT OF THE INTERIOR

National Park Service

30-Day Federal Register Notice of Submission of Network to Freedom Application Package to Office of Management and Budget; Opportunity for Public Comment

AGENCY: Department of the Interior, National Park Service, National Underground Railroad Network to Freedom Program.

ACTION: Notice of submission to OMB and request for comments.

SUMMARY: Under the provisions of the paperwork Reduction Act of 1995 (Pub. L. 104-13, 44 U.S.C. 3507) and 5 CFR part 1320, Reporting and Recordkeeping Requirements, the National Park Service (NPS) invites comments on a submitted request to the Office of Management and Budget (OMB) to approve an extension of a currently approved information collection clearance (OMB #1024-0232).

DATES: Public Comments on the information collection will be accepted on or before January 29, 2007.

The Office of Management and Budget (OMB) has up to 60 days to approve or disapprove the information collection but may respond after 30 days. Therefore to ensure maximum consideration, OMB should receive comments by 30 days from the date of publication in the Federal Register.

ADDRESSES: You may submit comments directly to the Desk Officer for the Department of the Interior (OMB #0124-0232), Office of Information and Regulatory Affairs, OMB, by fax at 202-395-6566 or by electronic mail at oira_docket@omb.eop.gov please mail or hand carry a copy of your comments to Diane Miller, National Coordinator, National Underground Railroad Network to Freedom Program, National Park Service, Midwest Regional Office, 601 Riverfront Drive, Omaha, Nebraska, 68102. If you wish to send a copy of your comments by electronic mail, you may send them to diane_miller@nps.gov.

FOR FURTHER INFORMATION OR A COPY OF THE PACKAGE SUBMITTED FOR OMB REVIEW, CONTACT: Diane Miller, 402-661-1588 (diane_miller@nps.gov) or James Hill, 402-661-1590 (james_hill@nps.gov) at National Park Service, Midwest Regional Office, 601 Riverfront Drive, Omaha, Nebraska 68102.

SUPPLEMENTARY INFORMATION: Public Law 105-203 authorizes the NPS to develop and administer the National Underground Railroad Network to Freedom (Network), a nationwide collection of governmental and nongovernmental sites, facilities, and programs associated with the historic Underground Railroad movement. The NPS has developed the application process through which associated elements can be included in the Network The information collected will: (a) Verify associations to the Underground Railroad, (b) Measure minimum levels of standards for inclusion in the Network, and (c) Identify general needs for technical assistance.

The purpose of the information collection is to evaluate sites, facilities, and programs that are applying for inclusion in the National Underground Railroad Network to Freedom. The information is used by the NPS to determine if candidates seeking inclusion in the Network meet the minimum criteria.

Title: NPS National Underground Railroad Network to Freedom Application.

Bureau Form Number: n/a.

OMB Number: 1024-0232.

Expiration Date: 12/31/2006.

Type of request: Extension of a currently approved information collection.

Description of need: The NPS has identified guidelines and criteria for associated elements to qualify for the Network. The application form documents sizes, programs, and facilities and demonstrates that they meet the criteria established for inclusion. The documentation will be incorporated into a database that will be available to the general public for information purposes. The proposed information to be collected regarding these sites, facilities, and programs is not available from existing records, sources, or observations.

Automated data collection: Respondents must verify associations and characteristics through descriptive texts that are the results of historical research. Evaluations are based on subjective analysis of the information provided, which often includes copies of rare documents and photographs. Much of the information is submitted in electronic format, but at the present time, it is not practicable to gather all of the required information electronically.

Descriptive of respondents: The affected publics are State, tribal, and local governments, Federal agencies, businesses, non-profit organizations, and individuals throughout the United States. Nominations to the Network are voluntary.

Estimated average annual number of respondents: 70.

Estimated average annual number of responses: 70.

Estimated average burden hours per response: 15.

Estimated frequency of response: once per respondent.

Estimated annual reporting burden: 1050 hours.

There were no public comments received as a result of publishing in theFederal Register a 60-day notice [published October 12, 2006 (71 FR 60180)] of intention to renew clearance of this information collection. Comments from seven respondents were collected from a small sample of present and potential applicants to the program. Three comments regarded making downloading the form from our Web site earlier. With applicants, we address this problem by sending the form electronically. upon request. One comment regarded the complexity of requirements and instructions; we address this issue by electronically sending a sample or samples of successful applications to potential applicants when they inform use of their intent to apply.

The comments from the public outreach did not affect our estimate of the public burden. The public now has a second opportunity to comment.

Comments are invited on (1) The need for the information including whether the information has practical utility; (2) the accuracy of this reporting burden estimate; (3) ways to enhance the quality, utility, and clarity of the information to be collected on respondents, including the use of automated collection techniques of other forms of information technology.

All comments will become a matter of public record.

Doris Lowery,
NPS Information Collection Clearance Officer, Washington Administrative Program Center.

[FR Doc. 06-9946 Filed 12-27-06; 11:52 am]

BILLING CODE 4312-52-M